DEPARTMENT OF ENERGY

Federal Energy Regulatory Commission

Notice of Paper Scoping and Soliciting Scoping Comments

February 25, 2003.

Take notice that the following hydroelectric application has been filed with the Commission and is available for public inspection:

a. Type of Application: New Minor License.

b. Project No.: 1413-032.

c. Date filed: October 30, 2002.

d. Applicant: Fall River Rural Electric Cooperative, Inc.

e. Name of Project: Buffalo River Hydroelectric Project.

f. Location: On the Buffalo River near it's confluence with the Henry's Fork River, in Fremont, Idaho. The project occupies 9.8 acres of land within the Targhee National Forest.

g. Filed Pursuant to: Federal Power Act 16 U.S.C. 791 (a)-825.

h. Applicant Contact: Fall River Rural Electric Cooperative, Inc., 1150 North 3400 East, Ashton, Idaho 83420, Tel. # (208) 652-7431, and/or Brent L. Smith, President, Northwest Power Services, Inc, P.O. Box 535, Rigby, Idaho 83442, Tel. # (208) 745-0834.

i. FERC Contact: Gaylord Hoisington, (202) 502-6032, gaylord.hoisington@FERC.gov.

j. Deadline for filing scoping comments is March 27, 2003.

All documents (original and eight copies) should be filed with: Magalie R. Salas, Secretary, Federal Energy Regulatory Commission, 888 First Street, NE., Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. See 18 CFR 385.2001(a)(1)(iii) and the instructions on the Commission's web site, http://www.ferc.gov, under the “e-Filing” link.

k. This application is not ready for environmental analysis at this time.

l. Description of the Project: The existing Buffalo River Project consists of: (1) a 142-foot-long by 12-foot-high timber-faced rock-filled diversion dam; (2) a 40-foot-long by 3-foot-high concrete slab spillway with stop logs; (3) a fish passage structure; (4) a concrete intake structure with a 5-foot steel slide gate; (5) a trash rack; (6) a 52-foot-long by 5-foot-diameter concrete encased steel penstock; (7) a 34-foot-long by 22-foot-high masonry block powerhouse containing a 250-kilowatt Bouvier Kaplan inclined shaft turbine; and (8) other appurtenant facilities. The applicant estimates that the total average annual generation would be 1,679 megawatthours.

m. A copy of the application is on file with the Commission and is available for public inspection. This filing is available for review at the Commission or may be viewed on the Commission's Web site at http://www.ferc.gov, using the “FERRIS” link. Enter the docket number excluding the last three digits in the docket number filed to access the document. For assistance, contact FERC Online Support at FERCOnlineSupport@ferc.gov or toll-free at (866)208-3676, or for TTY, contact (202)502-8659. A copy is also available for inspection and reproduction at the address in item h above.

n. Scoping Process: Scoping is intended to advise all parties regarding the proposed scope of the environmental analysis and to seek additional information pertinent to this analysis. The Commission intends to prepare an environmental assessment (EA) for the project in accordance with the National Environmental Policy Act. The EA will consider both site-specific and cumulative environmental impacts and reasonable alternatives to the proposed action.

At this time, the Commission staff do not propose to conduct any formal public or agency meetings or an on-site visit. Instead, we will solicit comments, recommendations, information, and alternatives by conducting paper scoping through issuing Scoping Document 1 (SD1).

Copies of SD1 outlining the subject areas to be addressed in the EA were distributed to the parties on the Commission's mailing list. Copies of SD1 are available for review at the Commission or may be viewed on the Commission's Web site at http://www.ferc.gov , using the “FERRIS” link. Enter the docket number excluding the last three digits in the docket number filed to access the document. For assistance, contact FERC Online Support at FERCOnlineSupport@ferc.gov or toll-free at (866)208-3676, or for TTY, contact (202)502-8659.

As part of scoping the staff will: (1) summarize the environmental issues tentatively identified for analysis in the EA; (2) solicit from comments all available information, especially quantifiable data, on the resources at issue; (3) encourage comments from experts and the public on issues that should be analyzed in the EA, including viewpoints in opposition to, or in support of, the staff's preliminary views; (4) determine the resource issues to be addressed in the EA; and (5) identify those issues that require a detailed analysis, as well as those issues that do not require a detailed analysis. Consequently, interested entities are requested to file with the Commission any data and information concerning environmental resources and land uses in the project area and the subject project's impacts to the aforementioned.

o. The tentative schedule for preparing the Buffalo River EA is:

Major Milestone and Target Date

Ready for Environmental Analysis Notice

October 30, 2003.

Draft EA Issued

January 30, 2004.

Final EA Issued

April 3, 2004.

Note: The schedule is going to vary depending upon the circumstances of the project (deficiencies, additional information, etc.) See Guidance for Publishing Hydro Licensing Schedules.

Magalie R. Salas,
Secretary.

[FR Doc. 03-4966 Filed 3-3-03; 8:45 am]

BILLING CODE 6717-01-P